DEPARTMENT OF THE TREASURY

Internal Revenue Service

26 CFR Part 1

[REG-148500-12]

RIN 1545-BL36

Shared Responsibility Payment for Not Maintaining Minimum Essential Coverage

Correction

In proposed rule document 2013-2141 appearing on pages 7314-7331 in the issue of Monday, February 1, 2013, make the following correction:

On page 7321, in the first column, in the 26th line from the bottom, “½” should read as “1/12”.

[FR Doc. C1-2013-02141 Filed 3-28-13; 8:45 am]

BILLING CODE 1505-01-D